NUCLEAR REGULATORY COMMISSION

[NRC-2011-0296]

Design, Inspection, and Testing Criteria for Air Filtration and Adsorption Units

AGENCY: Nuclear Regulatory Commission.

ACTION: Draft regulatory guide; request for comment.

SUMMARY: The U.S. Nuclear Regulatory Commission (NRC or the Commission) is issuing for public comment draft regulatory guide (DG), DG-1274, “Design, Inspection, and Testing Criteria for Air Filtration and Adsorption Units of Postaccident Engineered-Safety-Feature Atmosphere Cleanup Systems in Light-Water-Cooled Nuclear Power Plants.” This guide applies to the design, inspection, and testing of air filtration and iodine adsorption units of engineered-safety-feature (ESF) atmosphere cleanup systems in light-water-cooled nuclear power plants.

DATES: Submit comments by February 25, 2012. Comments received after this date will be considered if it is practical to do so, but the NRC is able to ensure consideration only for comments received on or before this date. Although a time limit is given, comments and suggestions in connection with items for inclusion in guides currently being developed or improvements in all published guides are encouraged at any time.

ADDRESSES: Please include Docket ID NRC-2011-0296 in the subject line of your comments. Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed. You may submit comments by any one of the following methods:

• Federal Rulemaking Web Site: Go to http://www.regulations.gov and search for documents filed under Docket ID NRC-2011-0296. Address questions about NRC dockets to Carol Gallagher, telephone: (301) 492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at (301) 492-3446.

You can access publicly available documents related to this regulatory guide using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1 (800) 397-4209, (301) 415-4737, or by email to pdr.resource@nrc.gov. DG-1278 is available electronically under ADAMS Accession Number ML11244A045. The regulatory analysis is available under ADAMS Accession Number ML11244A050.

• NRC's Public Web Site: Electronic copies of DG-1274 are also available through the NRC's public Web site under Draft Regulatory Guides in the “Regulatory Guides” collection of the NRC's Library at http://www.nrc.gov/reading-rm/doc-collections/.

• Federal Rulemaking Web Site: Public comments and supporting materials related to this regulatory guide can be found at http://www.regulations.gov by searching on Docket ID NRC-2011-0296.

Regulatory guides are not copyrighted, and Commission approval is not required to reproduce them.

FOR FURTHER INFORMATION CONTACT: Mekonen Bayssie, U.S. Nuclear Regulatory Commission, Washington, DC 20555-0001, telephone: (301) 251-7489 or email: Mekonen.Bayssie@nrc.gov.

SUPPLEMENTARY INFORMATION: The NRC is issuing for public comment a draft guide in the NRC's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide, entitled, “Design, Inspection, and Testing Criteria for Air Filtration and Adsorption Units of Postaccident Engineered-Safety-Feature Atmosphere Cleanup Systems in Light-Water-Cooled Nuclear Power Plants,” is temporarily identified by its task number, DG-1274. The DG-1274 is proposed revision 4 of Regulatory Guide 1.52, dated June 2001.

This guide provides a method that the NRC considers acceptable to implement Title 10, of the Code of Federal Regulations, part 50, “Domestic Licensing of Production and Utilization Facilities,” Appendix A, “General Design Criteria for Nuclear Power Plants,” as it applies to the design, inspection, and testing of air filtration and iodine adsorption units of engineered-safety-feature (ESF) atmosphere cleanup systems in light-water-cooled nuclear power plants. For the purposes of this guide, ESF atmosphere cleanup systems are those systems that are credited in the licensee's current design-basis accident (DBA) analysis, as described in the safety analysis report (SAR), or those systems that the licensee has described in the SAR as ESF atmosphere cleanup systems. This guide addresses ESF atmosphere cleanup systems, including the various components and ductwork, in the postulated DBA environment.

For the Nuclear Regulatory Commission.
Dated at Rockville, Maryland this 21st day of December, 2011.
Harriet Karagiannis,
Acting Chief, Regulatory Guide Development Branch, Division of Engineering, Office of Nuclear Regulatory Research.

[FR Doc. 2011-33545 Filed 12-29-11; 8:45 am]

BILLING CODE 7590-01-P